DEPARTMENT OF HEALTH AND HUMAN SERVICES

Centers for Medicare and Medicaid Services

[Document Identifier: CMS-10086]

Emergency Clearance; Notice of Funding Availablility and Public Information Collection Requirements Submitted to the Office of Management and Budget; Correction

ACTION: Notice; correction.

SUMMARY: In the Federal Register issue of Friday, May 30, 2003, 68 FR 32520, FR Doc. 03-13582, make the following corrections:

1. On page 32521, column 2, paragraph 1, line 2, the date, “July 21, 2003”, should read “June 27, 2003.”

2. On page 32521, column 2, paragraph 1, line 7, and paragraph 4, last line, the date, “July 16, 2003”, should read “June 13, 2003.”

Dated: June 2, 2003.
Julie Brown,
Acting Reports Clearance Officer, Office of Strategic Operations and Regulatory Affairs, Division of Regulations Development and Issuances.

[FR Doc. 03-14378 Filed 6-6-03; 8:45 am]

BILLING CODE 4120-03-P